DEPARTMENT OF AGRICULTURE

Animal and Plant Health Inspection Service

9 CFR Parts 71, 77, and 78

[Docket No. 99-090-1]

Livestock Identification; American Identification Numbering System

AGENCY: Animal and Plant Health Inspection Service, USDA.

ACTION: Advance notice of proposed rulemaking and request for comments.

SUMMARY: We are soliciting public comment on our intent to recognize the American Identification Numbering System as a means of providing unique identification for livestock on official eartags. The American Identification Numbering System is a universal numbering system. It can be used to identify an animal for many purposes, including interstate and international movements, food safety, genetic evaluation, and animal health purposes, thus reducing the need for multiple identification numbers and devices. Recognizing this system would allow producers to use it for interstate movement of livestock under our domestic regulations for disease control and eradication.

DATES: We invite you to comment on this docket. We will consider all comments that we receive by May 2, 2000.

ADDRESSES: Please send your comment and three copies to: Docket No. 99-090-1, Regulatory Analysis and Development, PPD, APHIS, Suite 3C03, 4700 River Road, Unit 118, Riverdale, MD 20737-1238.

Please state that your comment refers to Docket No. 99-090-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. John F. Wiemers, National Animal Identification Director, APHIS Animal Health Programs Staff, VS, APHIS, 2100 S. Lake Storey Road, Galesburg, IL 61401; (309) 344-1942.

SUPPLEMENTARY INFORMATION:

Background

The Animal and Plant Health Inspection Service (APHIS) regulates the interstate movement of certain animals to prevent the spread of livestock and poultry diseases within the United States. The regulations are contained in 9 CFR chapter I, subchapter C. Among other things, the regulations contain requirements for the official identification of animals moved interstate. One means of official identification is an official eartag. As defined in the regulations, an official eartag is an APHIS-approved, tamper-resistant eartag that provides unique identification for each animal. To provide unique identification for each animal, the regulations specify that the eartag must either conform to the alpha-numeric National Uniform Eartagging System or bear a valid premises identification number that is used in conjunction with the producer's livestock production numbering system. We are soliciting comment through this advance notice of proposed rulemaking on our intent to adopt another eartag numbering system— the American Identification Numbering (AIN) System—as an alternative means of providing a unique identification for livestock.

The official eartag currently in use under 9 CFR chapter I, subchapter C, as well as other official means of identification such as official tattoos, have been vital to disease control and eradication programs, but they do not meet other identification needs. For example, many animals have separate identification numbers and devices for on-farm production purposes, animal data recording, genetic evaluation, and breed registration. Furthermore, as diseases such as tuberculosis, brucellosis, and pseudorabies are eradicated from the United States, fewer animals will be required to be officially identified under 9 CFR chapter I, subchapter C. As a result, our ability to trace diseased animals back to their herds of origin may be compromised in the future unless we provide producers with an identification system that will be useful for other purposes and easy to apply on the farm.

The AIN System is a universal livestock identification system that can provide identification for many purposes, including interstate and international trade, food safety, genetic evaluation, and animal health purposes, thus reducing the need for multiple identification numbers and devices. It is an alpha-numeric numbering system that uses 12 characters, in addition to a 3-character country code, to provide a unique identification number for individual livestock. In contrast to current official animal identification numbering systems, it does not have a State prefix, but that could be remedied by the establishment of a national database, where anyone could find an individual animal's State of origin from its identification number.

If we recognized the AIN System as an official method of providing identification on eartags, it would be administered by a designated nonprofit organization. The administering organization would allocate blocks of numbers to other groups or organizations, such as breed associations, industry groups, and States, which would, in turn, assign identification administrators to provide identification eartags to producers. Identification administrators would request additional blocks of numbers from the designated nonprofit organization when their allocated blocks were all assigned. Identification numbers would be marked on eartags with easy to read numbers and, potentially, machine readable codes. It would be the identification administrators' responsibility to prevent duplication of numbers and to maintain records of animals that are identified. They would also cooperate with APHIS for disease control purposes.

Participation in using the AIN System would be voluntary. Producers who wished to continue using their current systems of identification could continue to do so. Many producers already use official eartags to identify their livestock. Although switching to the AIN system could result in a small increase in costs associated with the new eartags, those costs could be offset by a reduced need for multiple identification devices.

We recognize that the AIN System may be used to identify livestock on forms and devices other than eartags, such as registration papers. Our regulations do not preclude such uses. The only change to our regulations that we believe is necessary to allow use of the AIN System is to our definition of official eartag.

The AIN System is compatible with current U.S. methods of livestock identification and with universal identification systems in other countries, including Canada and the European Union. APHIS' regulatory records could be adapted to accept the AIN System for all recordkeeping related to the interstate and international movement of animals, semen, embryos, and related animal products.

The AIN System has been demonstrated in the United States under a dairy industry initiative called the National Farm Animal Identification and Records (F.A.I.R.) pilot project. Under the National F.A.I.R. pilot project, which began in the spring of 1998, 60,000 to 70,000 dairy cattle have been identified using the AIN system. The Council on Dairy Cattle Breeding (CDBC) administers the system.

We invite comments concerning the implementation and use of the AIN System on official eartags. In particular, we are soliciting comments from all livestock industries, including the beef, dairy, equine, sheep, swine, and goat industries, concerning the system's lack of a State prefix, the administration of the AIN System, and the concept of a universal identification system, in general, as opposed to multiple systems of identification.

Authority: 21 U.S.C. 111-113, 114, 114a, 114a-1, 115-117, 120-126, 134b, and 134f; 7 CFR 2.22, 2.80, and 371.2(d).

Done in Washington, DC, this 28th day of February 2000.
Bobby R. Acord,
Acting Administrator, Animal and Plant Health Inspection Service.

[FR Doc. 00-5164 Filed 3-2-00; 8:45 am]

BILLING CODE 3410-34-U